NUCLEAR REGULATORY COMMISSION

10 CFR Part 72

[NRC-2024-0200]

RIN 3150-AL23

List of Approved Spent Fuel Storage Casks: NAC Multi-Purpose Canister (NAC-MPC) System, Certificate of Compliance No. 1025, Amendment No. 9, and Revision to Amendment Nos. 6, 7, and 8

AGENCY: Nuclear Regulatory Commission.

ACTION: Direct final rule; confirmation of effective date.

SUMMARY: The U.S. Nuclear Regulatory Commission (NRC) is confirming the effective date of May 13, 2025, for the direct final rule that was published in the Federal Register on February 27, 2025. This direct final rule amended the NAC International, Inc. Multi-Purpose Canister System listing within the “List of approved spent fuel storage casks” to include Amendment No. 9 and revisions to Amendment Nos. 6, 7, and 8 to Certificate of Compliance No. 1025.

DATES: Effective date: The effective date of May 13, 2025, for the direct final rule published February 27, 2025 (90 FR 10781), is confirmed.

ADDRESSES: Please refer to Docket ID NRC-2024-0200 when contacting the NRC about the availability of information for this action. You may obtain publicly available information related to this action by any of the following methods:

• Federal Rulemaking Website: Go to https://www.regulations.gov and search for Docket ID NRC-2024-0200. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1025, the associated changes to the technical specifications, and the final safety evaluation report are available in ADAMS under Accession No. ML25083A282.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Kristina Banovac, Office of Nuclear Material Safety and Safeguards; telephone: 301-415-7116, email: kristina.banovac@nrc.gov or Amy McKenna, Office of Nuclear Material Safety and Safeguards, email: amy.mckenna@nrc.gov. Both are staff of the U.S. Nuclear Regulatory Commission, Washington, DC 20555-0001.

SUPPLEMENTARY INFORMATION: On February 27, 2025 (90 FR 10781), the NRC published a direct final rule amending its regulations in part 72 of title 10 of the Code of Federal Regulations to revise the NAC International, Inc. Multi-Purpose Canister System listing within the “List of approved spent fuel storage casks” to include Amendment No. 9 and revision to Amendment Nos. 6, 7, and 8. Amendment No. 9 and revision to Amendment Nos. 6, 7, and 8 revises the description of the vertical concrete cask (VCC) in the certificate of compliance and technical specifications to make a distinction between the VCC body and the VCC lid, in terms of applicability of the American Concrete Institute (ACI) Specifications ACI 349 and ACI 318.

In the direct final rule, the NRC stated that if no significant adverse comments were received, the direct final rule would become effective on May 13, 2025. The NRC received and docketed one comment on the companion proposed rule (90 FR 10799; February 27, 2025). An electronic copy of the comment can be obtained from the Federal Rulemaking website at https://www.regulations.gov under Docket ID NRC-2024-0200 and is also available in ADAMS under Accession No. ML25090A312. The NRC evaluated the comment against the criteria described in the direct final rule and determined that the comment was not significant and adverse. Specifically, the comment was outside the scope of this rulemaking and did not oppose the rule; propose a change or an addition to the rule; or cause the NRC to make a change to the rule, the certificate of compliance, or the technical specifications. Therefore, this direct final rule will become effective as scheduled.

Dated: April 9, 2025.
For the Nuclear Regulatory Commission.
Araceli Billoch Colon,
Chief, Regulatory Analysis and Rulemaking Support Branch, Division of Rulemaking, Environmental, and Financial Support, Office of Nuclear Material Safety and Safeguards.

[FR Doc. 2025-06315 Filed 4-11-25; 8:45 am]

BILLING CODE 7590-01-P